DEPARTMENT OF DEFENSE

[Docket ID: USN-2009-0022]

U.S. Marine Corps; Privacy Act of 1974; System of Records

AGENCY: U.S. Marine Corps, DoD.

ACTION: Notice to add a system of records.

SUMMARY: The U.S. Marine Corps is proposing to add a system of records to its inventory of records system subject to the Privacy Act of 1974, (5 U.S.C. 552a), as amended.

DATES: This proposed action will be effective without further notice on January 19, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from (see FOR FURTHER INFORMATION CONTACT).

The proposed system report, as required by 5 U.S.C. 552a(r), of the Privacy Act of 1974, as amended, was submitted on December 10, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 14, 2009.
Mitchell S. Bryman,
Alternate OSD Federal Register Liaison Officer, Department of Defense.

M01080-3

SYSTEM NAME:

Total Force Historical Data Warehouse.

SYSTEM LOCATION:

Manpower Information (MI), Manpower and Reserve Affairs (M&RA) at the James Wesley Marsh Center, 3280 Russell Rd., Marine Corps Base (MCB) Quantico, VA 22134-5103.

CATEGORIES OF INDIVIDUALS COVERED BY THE SYSTEM:

Active Duty, Reserve, and Retired Marines and Sailors.

CATEGORIES OF RECORDS IN THE SYSTEM:

Historical personnel data that include full name, rank, grade, Social Security Number (SSN), current address/contact information, duty status, unit, component code, gender, security investigation date/type, enlistment contract details, end of active service (EAS), end of current contract (ECC), and end of obligated service (EOS), training information to include military occupational specialties (MOS), military schools attended, college courses and degrees and other related data.

AUTHORITY FOR MAINTENANCE OF THE SYSTEM:

5 U.S.C., 301, Departmental Regulations; 10 U.S.C. 5013, Secretary of the Navy; 10 U.S.C. 5041, Headquarters, Marine Corps; MCO 5311.1C, Total Force Structure Process; MCO P1080.39B, Administrative Instructions for Manpower Management System of Headquarters Marine Corps and E.O. 9397 (SSN), as amended.

PURPOSE(S):

Total Force Historical Data Warehouse is a repository of historical data and includes decision support tools to support strategic decisions made about accessions, training, promotions, and retention. The Personally Identifiable Information (PII) together with other organizational data is used to assist Manpower & Reserve Affairs (M&RA) personnel to properly maintain and analyze historical personnel data.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD `Blanket Routine Uses' that appear at the beginning of the Marine Corps compilation of systems of records notices also apply to this system.

POLICIES AND PRACTICES FOR STORING, RETRIEVING, ACCESSING, RETAINING, AND DISPOSING OF RECORDS IN THE SYSTEM:

STORAGE:

Electronic storage media.

RETRIEVABILITY:

Retrieved by individual's name, Social Security Number (SSN) and/or unit.

SAFEGUARDS:

Records are maintained in area only accessible to authorized MI server room personnel that are properly screened, cleared, and trained. System software uses Primary Key Infrastructure (PKI)/Common Access Card (CAC) authentication to lock out unauthorized access. System software contains authorization/permission partitioning to limit access to appropriate organizational level.

RETENTION AND DISPOSAL:

Disposition pending until the National Archives and Records Administration approves retention and disposal schedule; records will be treated as permanent.

SYSTEM MANAGER(S) AND ADDRESS:

Deputy Commandant, M&RA, James Wesley Marsh Center, 3280 Russell Rd., Marine Corps Base (MCB), Quantico, VA 22134-5103.

NOTIFICATION PROCEDURES:

Individuals seeking to determine whether information about themselves is contained in this system should address written inquiries to Deputy Commandant, M&RA, James Wesley Marsh Center, 3280 Russell Rd., MCB Quantico, VA 22134-5103.

The request must be signed and include full name, Social Security Number (SSN), and a complete mailing address.

RECORD ACCESS PROCEDURES:

Individuals seeking access to information about themselves contained in this system should address written inquiries to Deputy Commandant, M&RA, James Wesley Marsh Center, 3280 Russell Rd., Quantico, VA 22134-5103.

The request must be signed and include full name, Social Security Number (SSN), and a complete mailing address.

CONTESTING RECORD PROCEDURES:

The Marine Corps rules for contesting contents and appealing initial agency determinations are published in Secretary of the Navy Instruction 5211.5; Marine Corps Order P5211.2; 32 CFR part 701; or may be obtained from system manager.

RECORD SOURCE CATEGORIES:

Operational Data Store Enterprise (ODSE) and Defense Manpower Data Center (DMDC).

EXEMPTIONS CLAIMED FOR THE SYSTEM:

None.

[FR Doc. E9-29997 Filed 12-16-09; 8:45 am]

BILLING CODE 5001-06-P